FEDERAL COMMUNICATIONS COMMISSION

47 CFR Parts 1 and 64

[WC Docket No. 24-213; MD Docket No. 10-234; FCC 24-85; FR ID 245867]

Improving the Effectiveness of the Robocall Mitigation Database; Amendment of CORES Registration System; Correction

AGENCY: Federal Communications Commission.

ACTION: Proposed rule; correction.

SUMMARY: The Federal Communications Commission published a document in the Federal Register of September 12, 2024, proposing changes to procedural steps filers must take in the Robocall Mitigation Database. The document contained an incorrectly identified docket. This document corrects the misidentified docket, GN Docket No. 24-213, to the correct docket, WC Docket No. 24-213.

FOR FURTHER INFORMATION CONTACT: Erik Beith, Competition Policy Division, Wireline Competition Bureau, at (202) 418-0756, or email: erik.beith@fcc.gov.

SUPPLEMENTARY INFORMATION:

Correction

1. In the Federal Register of September 12, 2024, in FR Doc. 2024-20176, on page 74184, in the second column, under document headings, correct the identified docket to read: [WC Docket No. 24-213; MD Docket No. 10-234; FCC 24-85; FR ID 240720]

2. In the third column, in the Supplementary Information section, in the first sentence, correct “GN Docket No. 24-213” to read “WC Docket No. 24-213.”

Federal Communications Commission.
Marlene Dortch,
Secretary.

[FR Doc. 2024-21642 Filed 9-20-24; 8:45 am]

BILLING CODE 6712-01-P